NATIONAL SCIENCE FOUNDATION

Special Emphasis Panel in Graduate Education; Notice of Meeting

In accordance with the Federal Advisory Committee Act (Pub. L. 92-463, as amended), the National Science Foundation announces the following meeting:

Name: Special Emphasis Panel in Graduate Education (57).

Date/Time: June 29th and 30th 2000, 8:00 a.m. to 5:00 p.m.

Place: National Science Foundation, 4201 Wilson Blvd., Room 375, Arlington, VA.

Type of Meeting: Closed.

Contact Persons: Dr. Sonia Ortega, Program Director, Mrs. Carolyn L. Piper, Asst. Program Director, Dr. Barbara Mulach, Presidential Management Intern, GK-12 Program and Ms. Deborah A. Daniels, Senior Program Assistant, Division of Graduate Education, National Science Foundation, 4201 Wilson Blvd. Room 907N, Arlington, VA 22230. (703) 306-1697.

Purpose of Meeting: To provide advice and recommendations concerning proposals submitted to NSF for financial support.

Agenda: To review and evaluate applications submitted to the NSF-Graduate teaching Fellows in K-12 Education program as part of the selection process for awards.

Reason for Closing: The proposals being reviewed include information of a proprietary or confidential nature, including technical information, financial data, such as salaries, and personal information concerning individuals associated with the proposals. These matters are exempt under 5 U.S.C. 552b(c), (4) and (6) of the Government in the Sunshine Act.

Dated: May 17, 2000.
Karen J. York,
Committee Management Officer.

[FR Doc. 00-12829 Filed 5-19-00; 8:45 am]

BILLING CODE 7555-01-M